Proclamation 9054 of October 31, 2013

National Native American Heritage Month, 2013

By the President of the United States of America

A Proclamation

From Alaskan mountain peaks to the Argentinian pampas to the rocky shores of Newfoundland, Native Americans were the first to carve out cities, domesticate crops, and establish great civilizations. When the Framers gathered to write the United States Constitution, they drew inspiration from the Iroquois Confederacy, and in the centuries since, American Indians and Alaska Natives from hundreds of tribes have shaped our national life. During Native American Heritage Month, we honor their vibrant cultures and strengthen the government-to-government relationship between the United States and each tribal nation.

As we observe this month, we must not ignore the painful history Native Americans have endured—a history of violence, marginalization, broken promises, and upended justice. There was a time when native languages and religions were banned as part of a forced assimilation policy that attacked the political, social, and cultural identities of Native Americans in the United States. Through generations of struggle, American Indians and Alaska Natives held fast to their traditions, and eventually the United States Government repudiated its destructive policies and began to turn the page on a troubled past.

My Administration remains committed to self-determination, the right of tribal governments to build and strengthen their own communities. Each year I host the White House Tribal Nations Conference, and our work together has translated into action. We have resolved longstanding legal disputes, prioritized placing land into trust on behalf of tribes, stepped up support for Tribal Colleges and Universities, made tribal health care more accessible, and streamlined leasing regulations to put more power in tribal hands. Earlier this year, an amendment to the Stafford Act gave tribes the option to directly request Federal emergency assistance when natural disasters strike their homelands. In March, I signed the Violence Against Women Reauthorization Act, which recognizes tribal courts' power to convict and sentence certain perpetrators of domestic violence, regardless of whether they are Indian or non-Indian. And this June, I moved to strengthen our nation-to-nation relationships by establishing the White House Tribal Council on Native American Affairs. The Council is responsible for promoting and sustaining prosperous and resilient Native American communities.

As we observe Native American Heritage Month, we must build on this work. Let us shape a future worthy of a bright new generation, and together, let us ensure this country's promise is fully realized for every Native American.

NOW, THEREFORE, I, BARACK OBAMA, President of the United States of America, by virtue of the authority vested in me by the Constitution and the laws of the United States, do hereby proclaim November 2013 as National Native American Heritage Month. I call upon all Americans to commemorate this month with appropriate programs and activities, and to celebrate November 29, 2013, as Native American Heritage Day.

IN WITNESS WHEREOF, I have hereunto set my hand this thirty-first day of October, in the year of our Lord two thousand thirteen, and of the Independence of the United States of America the two hundred and thirty-eighth.

[FR Doc. 2013-26677

Filed 11-4-13; 11:15 am]

Billing code 3295-F4